DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is removing the names of 3 individuals, whose property and interests in property were blocked pursuant to Executive Order 13224, from the list of Specially Designated Nationals and Blocked Persons (SDN List).

DATES: OFAC's actions described in this notice were effective June 30, 2016.

FOR FURTHER INFORMATION CONTACT: Associate Director for Global Targeting, tel.: 202-622-2420, Assistant Director for Sanctions Compliance & Evaluation, tel.: 202-622-2490, Assistant Director for Licensing, tel.: 202-622-2480, Office of Foreign Assets Control, or Chief Counsel (Foreign Assets Control), tel.: 202-622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On June 30, 2016, OFAC removed the following 3 individuals from the SDN List.

Individuals

1. JIM'ALE, Ahmed Nur Ali (a.k.a. JIMALE, Ahmad Ali; a.k.a. JIM'ALE, Ahmad Nur Ali; a.k.a. JIMALE, Ahmed Ali; a.k.a. JIMALE, Shaykh Ahmed Nur; a.k.a. JIMALE, Sheikh Ahmed; a.k.a. JUMALE, Ahmed Ali; a.k.a. JUMALE, Ahmed Nur; a.k.a. JUMALI, Ahmed Ali), P.O. Box 3312, Dubai, United Arab Emirates; Mogadishu, Somalia; Djibouti, Djibouti; DOB 20 May 1954; POB Eilbur, Somalia; nationality Somalia; citizen Somalia; alt. citizen Djibouti; Passport A0181988 (Somalia) issued 01 Oct 2001 expires 23 Jan 2011; Additional Djiboutian passport issued in 2010. (individual) [SDGT].

2. Daki, Mohamed, Via Melato 11, Reggio Emilia, Italy; DOB 29 Mar 1965; POB Casablanca, Morocco; nationality Morocco; arrested 4 Apr 2003 (individual) [SDGT].

3. HIMMAT, Ali Ghaleb, Via Posero 2, Compione d'Italia CH-6911, Switzerland; DOB 16 Jun 1938; POB Damascus, Syria; citizen Switzerland; alt. citizen Tunisia (individual) [SDGT].

Dated: June 30, 2016.
John E. Smith,
Acting Director, Office of Foreign Assets Control.

[FR Doc. 2016-23070 Filed 9-23-16; 8:45 am]

BILLING CODE 4810-AL-P